DEPARTMENT OF LABOR

Employment and Training Administration

[TA-W-58,369]

Agere Systems, Inc.; Including an On-Site Leased Employee of Microtronic, Inc.; Orlando, FL; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on December 19, 2005, applicable to workers of Agere Systems, Inc, Orlando, Florida. The notice was published in the Federal Register on January 10, 2006 (71 FR 1556). The certification was amended on April 19, 2006 to extend eligibility to apply for alternative trade adjustment assistance to the workers of the subject firm. The notice was published in the Federal Register on April 28, 2006 (71 FR 25240).

At the request of a company official, the Department reviewed the certification for workers of the subject firm. The workers were engaged in the production of integrated circuits.

New information shows that a leased worker of Microtronic, Inc. was employed on-site at the Orlando, Florida location of Agere Systems, Inc.

Based on these findings, the Department is amending this certification to include a leased worker of Microtronic, Inc., working on-site at Agere Systems, Inc., Orlando, Florida.

The intent of the Department's certification is to include all workers employed at Agere Systems, Inc., Orlando, Florida who was adversely affected by increased customer imports.

The amended notice applicable to TA-W-58,341 is hereby issued as follows:

All workers of Agere Systems, Inc., including an on-site leased worker of Microtronic, Inc., Orlando, Florida, who became totally or partially separated from employment on or after November 3, 2004, through December 19, 2007, are eligible to apply for adjustment assistance under Section 223 of the Trade Act of 1974, and are also eligible to apply for alternative trade adjustment assistance under Section 246 of the Trade Act of 1974.

Signed at Washington, DC, this 3rd day of July 2006.
Richard Church,
Certifying Officer, Division of Trade Adjustment Assistance.

[FR Doc. E6-11221 Filed 7-14-06; 8:45 am]

BILLING CODE 4510-30-P